DEPARTMENT OF TRANSPORTATION

National Highway Traffic Safety Administration

Cooperative Agreement Demonstration Program To Increase Safety Belt Use in Rural Areas

AGENCY: National Highway Traffic Safety Administration (NHTSA), Department of Transportation.

ACTION: Announcement of a demonstration cooperative agreement program to increase safety belt use in rural areas. This funding is available through special allocation by Congress to increase safety belt use among teens, minorities, and rural populations.

SUMMARY: The National Highway Traffic Safety Administration (NHTSA) announces a demonstration cooperative agreement program to solicit support for program leadership in increasing safety belt use and addressing traffic safety problems in rural communities. NHTSA is seeking to demonstrate best practices in establishing infrastructures in rural areas to address traffic safety problems utilizing a lead coordinating institution—community outreach serving agency or organization—interested in building and sustaining a coordinated motor vehicle injury prevention program in their rural service area.

NHTSA seeks to engage rural area service providers in institutionalizing traffic safety as part of their community outreach initiatives. This notice solicits applications from for-profit or not-for-profit national organizations, and State, regional or local agencies and organizations that administer direct community outreach programs in rural areas. In addition, NHTSA is particularly interested in gaining the interest and involvement of organizations that provide health and safety services and have the interest and ability to coordinate an on-going community effort beyond the project period. These could include, but are not limited to: hospitals and health care facilities, and Emergency Medical Services, law enforcement, transportation, county government and community serving organizations.

DATES: Applications must be received at the office designated below on or before (30 days after notice is issued) August 7, 2003, at 2 p.m., Eastern Standard Time.

ADDRESSES: Applications must be submitted to the National Highway Traffic Safety Administration, Office of Contracts and Procurement (NPO-220), ATTN: Maxine D. Edwards, 400 7th Street, SW., Room 5301, Washington, DC 20590. All applications submitted must include a reference to NHTSA Program #NTS-01-3-05149.

FOR FURTHER INFORMATION CONTACT: General administrative questions may be directed to Maxine D. Edwards, Office of Contracts and Procurement at (202) 366-4843. Programmatic questions relating to this grant program should be directed to Ann Mitchell, Occupant Protection Division (NTI-112), NHTSA, 400 7th Street, SW., Washington, DC 20590, by e-mail at amitchell@nhtsa.dot.gov, or by phone at (202) 366-2690. Interested applicants are advised that no separate application package exists beyond the contents of this announcement.

SUPPLEMENTARY INFORMATION:

Background

In 1996, the U.S. Department of Transportation commenced a national initiative to increase safety belt use nationwide called the Buckle Up America Campaign.¹ Since the start of the campaign, the national safety belt use rate has steadily climbed from 68 percent in 1996 to 75 percent in 2002. By 1999—a year ahead of schedule—the campaign had achieved its goal of reducing occupant fatalities in children ages 0-4 years by 15 percent. This success was a direct result of efforts by the many partners who joined the Buckle Up America Campaign and supported the campaign's initiatives. Despite significant gains, continued work is needed to reach the remaining 25 percent of Americans who still do not buckle up. NHTSA has established a target of 79 percent safety belt use by 2004. Meeting this goal will require an intense effort to persuade hardcore nonusers to change their behavior.

Rural populations are among the groups at higher risk of being killed in a crash, as are teens, minorities, and pickup truck drivers and passengers. NHTSA statistics show that traffic crashes, injuries, and fatalities occur with much higher frequency in rural areas than in urban areas. Factors such as higher alcohol-related crash rates, lower safety belt use, higher speeding crash rates and less accessibility to emergency services all contribute to the disparity. In 2001, 25,737 traffic related fatalities occurred in rural areas—61 percent of all traffic fatalities. Rural areas, however, account for only 39 percent of the vehicle miles traveled and only 21 percent of the population nationwide. In 2001, the rural fatality rate remains double that of the urban rate per 100 million vehicle miles traveled (VMT).²

These crash and fatality statistics illustrate why the rural population is a high-risk group that has been targeted by Congress for assistance. Yet, the highway safety community has not developed an approach that effectively incorporates rural America into its highway safety program. Administrative resources and programmatic goals often work against support for rural initiatives by focusing activity in high population/high crash rate areas. Rural communities individually do not have the data to support targeted funding in a small community; however, collectively, they encompass the majority of the crashes, injuries and fatalities on the road.

Across the board, safety belt use is lowest among young adults ages 16 to 24 years old and by occupants of pickup trucks. Safety belt use in pickup trucks is considerably lower (54 percent) in rural areas than in urban areas (69 percent).³ High-speed crashes play a role in the disparity, with 70 percent of fatal crashes at 55 MPH or higher occurring in rural areas.⁴ Studies reveal that survival from car crashes in rural areas depends on a number of factors, including crash dynamics, time to discovery and the degree of organization of EMS and trauma system resources.⁵

Though NHTSA studies show that enactment and enforcement of a primary safety belt law comprise a proven methodology to increase safety belt use, rural America faces challenges in implementing this approach, and rural secondary States even more so. Law enforcement officials in rural communities are often elected officials and thus reluctant to write traffic tickets. Due to limited resources, inadequate manpower, and lack of community support for strong enforcement, rural communities are less engaged in coordinated national, state and local safety belt enforcement campaigns such as the Operation ABC (America Buckles Up Children) Mobilizations, Click It or Ticket.⁶ These campaigns have proven successful in increasing safety belt use;⁷,⁸ however, rural America has not fully embraced the enforcement concept, nor have traditional program delivery systems been successful in reaching rural communities.

The problem of increasing safety belt use in rural communities needs a solution. Changing social norms in rural America is a difficult task that will require an understanding of the perceptions, knowledge, and attitudes of rural Americans. Messages and programs designed for “mainstream America” often are not effective for those populations most at risk or hardest to reach. Language, cultural, and other barriers must play a role in the development of tailored messages and alternate delivery channels. Increasing usage rates in this population will require the leadership, support and cooperation of respected organizations that represent and advocate on behalf of rural Americans, with the credibility and knowledge to influence their members and constituencies to buckle up. Engaging the rural residents themselves to take responsibility in addressing this issue also will be key to the success of the highway safety community's efforts.

This approach has been tested and proven effective in both urban and rural communities. Community Traffic Safety Programs and Safe Communities Coalitions ⁹,¹⁰ have been active throughout the nation for a number of years. NHTSA also partnered with the National Rural Health Association (NRHA) to demonstrate the “Partners for Rural Traffic Safety” community-based approach. Fifteen projects conducted in 1997-1998 resulted in an average nine percentage-point increase in safety belt use. NRHA and NHTSA produced the Partners for Rural Traffic Safety Action Kit ¹¹ based on the demonstration projects and their community approach. Information on how to obtain copies of the sources sited herein (and other relevant resources) is set forth below, in the “Additional Resources” section of this announcement.

Goal

The goals of this demonstration program are to test viable delivery mechanisms for administering traffic safety programs in rural communities and to engage rural communities in activities to increase safety belt use. We are seeking organizations/agencies that will take a leadership role in serving as a focal point for traffic safety program delivery to/within the community. The success of the effort will be measured in terms of:

• Changes in safety belt use rates;

• increases in enforcement activities;

• ability to coordinate, monitor, and publicize activity and serve as a focal point for information;

• ability to engage the community in the program, provide education and training, and to work closely with law enforcement and other community service providers on planning, data collection, and evaluation;

• utilization of technology, community resources, media, and other delivery channels to gather and provide information;

• ability to establish an infrastructure and acquire resources for sustaining the program beyond the initial project funding period;

• ability to evaluate activities and outcomes; and

• potential for replication in other rural community settings.

Purpose

The primary purpose of this cooperative agreement program is to identify/test “best practice” approaches for delivering/administering traffic safety programs in rural communities. Best practices are those that successfully increase safety belt use and can be replicated in other rural communities. The program is designed to generate the interest and commitment of rural area service providers to become traffic safety focal points in their rural community/service area. NHTSA will provide funding between approximately $150,000 and $200,000 total over a 3-year period for program startup, implementation, and evaluation for each community level project, as well as support for State or national organization administrative costs. Annual funding will be allocated in depreciating increments based on 100 percent funding the first year, 50 percent funding the second year, and 25 percent funding the third year. Thus, the successful applicant(s) will be responsible for providing 50 percent funding for the second year and seventy-five percent funding for the third year, while maintaining a level of program activity and delivery equivalent to or in excess of that provided in the first year of the program.

The objectives of this initiative are to have successful applicants, whether national, State or local, work together to establish an infrastructure for program delivery, to conduct program delivery activities and to spearhead coordination at the community level of highway safety activities, all designed to increase safety belt use. In order to achieve these objectives, the successful applicant(s) will:

• Work with NHTSA to identify one to four geographically dispersed “rural” community sites based on criteria and objectives identified in this Notice;

• Perform an assessment of the identified community site(s) for their safety belt use rates, knowledge and attitudes about safety belt use, enforcement of occupant protection laws, motor vehicle injuries and fatalities, and recent past/current program activity;

• Develop a program structure within the community organization(s) (and national or State organization, if applicable) or enhance an existing structure to serve as a central point(s) of contact for program coordination and community outreach;

• Design and implement program delivery services and information to/within the community(ies) with regard to safety belts, occupant protection, and traffic safety in coordination with law enforcement, other service providers, and community leaders;

• Evaluate the process and impact of this effort in terms of the benefits to the community and the service provider (applicant organization), increases in safety belt use rates and enforcement of occupant protection laws, changes in knowledge and attitudes, and community awareness of and impressions about the program, working under the oversight of a NHTSA evaluator.

Eligibility Requirements

Applications may be submitted by public and private, non-profit and for-profit organizations or agencies that represent and provide direct services to rural communities or within rural areas. An eligible organization may be national, state, regional or local in scope. Tribal organizations and agencies are also eligible to apply. Eligible applicants must have an established network at the community level, including affiliates well integrated into the infrastructure of each community where a demonstration project will be conducted.

• National organizations must have the capacity to administer the entire demonstration program, consisting of at least three to four geographically dispersed community projects each servicing at least a countywide area, through their State/local affiliates. National organizations must demonstrate how they will institutionalize the program within their organization, nationally, in addition to institutionalizing the program in the demonstration communities.

• State level organizations and agencies must have the capacity to administer/oversee at least one to possibly two community-level projects each servicing at least a countywide area, and also demonstrate how they will institutionalize the program at the state level in addition to institutionalizing the program in the demonstration community(ies).

• Local level applicants proposing to serve as the project focal point for the community must be able to provide program coordination/services on at least a countywide-basis. Tribal Nation applicants must have the capacity to provide program coordination/services on a basis comparable to countywide.

• All project applications must be coordinated with the State Governor's Highway Safety Office and a letter of support from that office must accompany applications. Tribal organization and agency applications must be coordinated with the Bureau of Indian Affairs (BIA) Indian Highway Safety Program Office, which serves as the Governor's Representative for Highway Safety for Indian Nations, and a letter of support from that office must accompany their application. National/state organizations may not be able to identify specific state/local site locations for proposed projects at the time of this application; however, upon award, successful applicants must submit support letters from the appropriate State Governor's Highway Safety Office or the Indian Highway Safety Program Office for all sites being considered for project funding under this agreement. These contacts and letters serve the purposes of notification and coordination with state and BIA highway safety programs. Contact information for Governor's Highway Safety Offices and the Indian Highway Safety Program Office can be found on the NHTSA Web site at: http://www.nhtsa.dot.gov/nhtsa/whatis/regions/

• Applicants must describe their strategies for increasing teen/adult safety belt use, including the role of law enforcement. Although programs may include activities that encompass younger children and the use of child restraint systems, the major focus should be on teen/adult belt use.

• All applicants must include an evaluation plan in their proposal and be willing to work in conjunction with a NHTSA evaluator (discussed below) to insure that consistent data is collected for overall evaluation across all projects awarded as part of the demonstration program.

Project Evaluation

• The grantee shall evaluate the process, outcome, and impact results of the demonstration project at the community level, and, if applicable, process and outcome of the effort at the State and/or national level to administer and institutionalize the program. As discussed in the “Goals” section of this announcement, at a minimum, applications should include a detailed Evaluation Plan. Please note that successful applicants will work closely with a NHTSA evaluator, most likely an independent contractor, who will oversee the evaluation component of the program and individual community projects. The evaluator will work with successful applicants on evaluation design and overseeing implementation to ensure that results from all awarded projects remain consistent. Because evaluation are critical to the success of the Demonstration Project, NHTSA will require successful applicants to expend up to 20 percent of the project budget on evaluation activities, which must include: a process and impact evaluation of this effort in terms of the benefits to the community and the service provider (applicant organization), increases in safety belt use rates and enforcement of occupant protection laws, changes in knowledge and attitudes, and community awareness of impressions about the program, working under the oversight of a NHTSA evaluator.

Additional Resources and References

The following is a list of resources and references relevant to this demonstration program. All (*) items may be ordered either directly from the NHTSA Web site at: http://www.nhtsa.dot.gov by E-Mail to Webmaster (see bottom of home page) or by sending a fax request to: Communication Services Division at 202-493-6062. All requests should include the name, address, and telephone number of the person to receive the materials.

1. Presidential Initiative to Increase Seat Belt Use Nationwide, Fourth Report to Congress, Second Report to the President.* NHTSA. November 2001. DOT HS 809 349. This is the latest published report documenting activities of the Buckle Up America Campaign from April 2, 1999 through December 31, 1999, http://www.nhtsa.dot.gov/people/injury/airbags/bua4threport/index.html.

2. Traffic Safety Facts 2001, Rural/Urban Comparison.* National Center for Statistics and Analysis, NHTSA. DOT HS 809 524. Fact Sheet describing the overview and trends of motor vehicle crashes and fatalities based on 2001 data from NHTSA's National Center for Statistics & Analysis, http://www-nrd.nhtsa.dot.gov/pdf/nrd-30/NCSA/TSF2001/2001rural.pdf.

3. Safety Belt Use in 2002—Demographic Characteristics.* National Center for Statistics and Analysis, NHTSA. DOT HS 809 557. Demographic results of National Occupant Protection Use Survey—2002. The data for this survey were collected between June 3, 2002 and June 22, 2002, at randomly selected road sites throughout the nation, http://www-nrd.nhtsa.dot.gov/pdf/nrd-30/NCSA/RNotes/2003/809-557.pdf.

4. IBID (2).

5. Esposito, T.J., Sanddal, T.L., Reynolds, S.A. and Sanddal, N.D. (2003). Effect of a Voluntary Trauma System on Preventable Death and Inappropriate Care in a Rural State. Journal of Trauma, 54(4) 663-670, http://www.jtrauma.com/.

6. Operation ABC: America Buckles Up Children Mobilizations and Click It or Ticket. Current information can be found on the following websites: The Buckle Up America Online Headquarters at: http://www.buckleupamerica.org and The National Safety Council Air Bag and Seat Belt Safety Campaign's Web site at: http://www.nsc.org/airbag.htm. You can also find resource documents on NHTSA's Web site at: http://www.nhtsa.dot.gov/people/injury/airbags/index.html.

7. Achieving a High Belt Use Rate: A Guide for Selective Traffic Enforcement Programs.* NHTSA. April 2001. DOT HS 809 244. This is a short How To Guide for communities who want to do a selective traffic enforcement program (sTEP). It describes how Chemong County (Elmira), New York, increased their seat belt use rate from 63 percent to 90 percent in three short weeks. The Guide describes leadership and coordination, enforcement strategies, public information and education messages, and includes data sheets to track progress, http://www.nhtsa.dot.gov/people/injury/research/ACHIEVE.pdf.

8. Evaluation of Click It or Ticket Model Programs.* NHTSA. November 2002. DOT HS 809 498. Click It or Ticket (CIOT) is an intense, short duration, safety belt enforcement program that relies heavily on paid media to reach all motorists. During the Memorial Day 2002 holiday period, ten States that implemented the full CIOT model (5 weeks of earned media, 2 weeks of paid media, 2 weeks of intensive enforcement, and belt use observations surveys and public awareness surveys) were compared to four States that conducted belt use enforcement but with limited specific paid advertisement placement, and four other States that conducted enforcement but without specific paid advertisement placement. Belt use increased +8.6 percentage points averaged across the ten CIOT States, +2.7 percentage points across the four limited paid media States, and +0.5 percentage points across the four States using no specific paid advertisement placement.

9. Safe Communities Service Center,* c/o NHTSA Region VI, 819 Taylor Street, Room 8A38, Fort Worth, Texas 76102, Phone: 817-978-3633, Fax: 817-978-8339, or E-Mail: Safe.Communities@nhtsa.dot.gov. Also visit the Safe Communities Web site on the Internet (http://www.nhtsa.dot.gov/safecommunities). These resources provide information on best practices, Safe Communities and traffic safety materials, and access to technical assistance sources.

10. Item # 5P0026 Safe Communities folio package.* NHTSA. 1997. DOT HS 808 578. Contains technical assistance materials on various topics including getting started, coalition building, partnering with traffic safety specialists and evaluation and monitoring tips.

11. Item #1P1239 Partners for Rural Traffic Safety Action Kit.* NHTSA. August 2001. DOT HS 809 299. This is a step-by-step guide on how to organize, plan and implement a 30-day campaign to increase safety belt use in rural communities based on demonstration projects conducted by the National Rural Health Association, http://www.nhtsa.dot.gov/people/injury/airbags/ruralsafety/index.html.

Application Procedures

Each applicant must submit one original and two copies of the application package to: NHTSA, Office of Contracts and Procurement (NPO-220), ATTN: Maxine D. Edwards, 400 7th Street, SW., Room 5301, Washington, DC 20590. An additional three copies will facilitate the review process, but are not required. Applications must be typed on one side of the page only. Applications must include a reference to NHTSA Program #NTS-01-3-05149, and specify if you are applying as a national, state or local applicant.

Only complete packages received on or before August 7, 2003, at 2 p.m. Eastern Standard Time will be considered.

Application Contents

1. The application package must be submitted with OMB Standard Form 424 (Rev. 4-88), Application for Federal Assistance, including 424A, Budget Information B Nonconstruction Programs, and 424B, Assurances—Nonconstruction Programs with the required information filled in and the certified assurances included. The OMB Standard Forms SF-424, SF-424A, and SF-424B may be downloaded directly from the OMB Internet Web site, http://www.whitehouse.gov/WH/EOP/OMB/Grants/.

While Form 424-A details budget information and section B identifies Budget Categories, the available space does not permit a description of adequate detail to provide for a meaningful evaluation of the proposed costs. Accordingly, applicants must also submit a supplemental Detailed Budget Sheet and Narrative Explanation of Costs, itemizing the proposed budget by cost category for each year of the project. For example, for Personnel/Labor, the Detailed Budget Sheet should break down: personnel positions, number of hours and hourly rates, and benefits; for Products/Materials/Supplies: item, amount, and unit cost; for Subcontracts: specific services to be provided and estimated costs; for Overhead Rate: identify what is included in the rate and provide documentation of any previous governmental approval of this rate; and for Indirect Costs: provide breakdown of what is included. The budget also should identify any additional resources/contributions from the applicant or other sources to support this effort, including in-kind services. The Narrative Explanation of Costs should reference the Detailed Budget Sheet items and explain why and how these costs are necessary to implement the project.

2. Applications shall include a Program Narrative Statement which:

a. Organization: identifies the organization's membership, purpose and structure; defines the constituency represented and serviced by the organization; demonstrates the organization's commitment to supporting the initiatives of the Buckle Up America Campaign; provides examples of the organization's involvement in community outreach activities; and states specifically how NHTSA funding will enable the organization to augment its rural community involvement in increasing safety belt use among the target population, and to institutionalize the demonstration program both in the community and within the applicant organization. Supporting documentation from concerned interests, partner organizations, and/or affiliates may be submitted to substantiate the applicant's level of commitment and interest.

b. Proposed Demonstration Sites: for each such site, identifies the community demographics, how the applicant and/or the applicant's local affiliate will design and implement this program, and serve as a sustained focal point for traffic safety in the community.

c. Plan of Action/Strategies: outlines a plan of action detailing the proposed work, including how activities will be coordinated with national and State mobilizations and other coordinated efforts to increase safety belt use. For calendar year 2004, the Click It or Ticket mobilization will begin on May 24 and end on June 6, 2004. States and communities are also encouraged to conduct summer-long campaigns, from July 4 to Labor Day, focusing on either safety belts, impaired driving, or both. The Action Plan should include an estimated time line of projected activity and approximate milestones. NHTSA will require successful applicants to submit a revised and more detailed Action Plan 60 days after award, including schedules for: dissemination of information; product development; targeted events; belt use observational survey dates; reporting dates; and/or other major tasks associated with the project.

d. Deliverables: identifies required deliverables and due dates including products and reports. The organization also should identify any NHTSA publications or other materials proposed to support the project, including quantities and describing use and distribution. Successful applicants will be required to submit to NHTSA quarterly progress reports and a comprehensive final report with a complete evaluation report, in accordance with the evaluation plan.

3. As discussed in the “Project Evaluation” section of this announcement, applications must include a detailed Evaluation Plan describing the applicant's proposed evaluation methodology for determining and documenting process, activity, outcomes and results.

4. As noted in the “Eligibility” section of this announcement, for each proposed project site, applications must include a support letter from the appropriate State Governor's Highway Safety Office and or BIA Indian Highway Safety Program Office for Tribal applications. Additional letters of support may be included.

Project Review Procedures and Criteria

Upon receipt, NHTSA will screen applications to ensure that applicant organizations meet the eligibility requirements identified herein. An evaluation committee then will review eligible applications using the criteria outlined below.

Application Review Process and Evaluation Factors

Each application package initially will be reviewed to confirm that the applicant is an eligible recipient and that the application contains all of the items specified in the Application Contents section of this announcement. Applicants should use the following outline of selection criteria as a basis for organizing their application packages:

1. Ability and commitment of the organization in taking a leadership role to coordinate program efforts to increase safety belt use in rural area(s) (30%).

The degree to which the applicant has demonstrated an understanding of the Buckle Up America campaign and detailed its role as a partner in the campaign; the organization's capacity to organize and manage a communitywide program, and its interest in and capacity to institutionalize the program and sustain its effort beyond the grant period.

2. Commitment to encourage and support law enforcement efforts to increase safety belt use (30%).

The degree to which the proposal incorporates coordinated activity with the law enforcement community and participation, with law enforcement, in national and State safety belt mobilization campaigns. The national mobilization schedule is noted in the “Application Contents” section of this announcement.

3. Action and Evaluation Plans (20%).

The quality and substance of the proposed action and evaluation plans, components of these plans, and data instruments utilized to measure outcomes and results. At a minimum, plans detailing all community projects must document: the process; activities; conduct of key participants; baseline; periodic safety belt observational surveys; and, as appropriate, public awareness surveys representative of the demonstration project site(s). In drafting plans, applicants should note that surveys should be scheduled in conjunction with mobilization or other “waves” of heightened activity periods. Additionally, community data, such as changes in: attitudes, knowledge and awareness, crashes, injuries, and fatalities, hospital admissions, enforcement citations, etc. should be specified.

4. Budget (20%).

The degree to which the application clearly identifies, itemizes, and explains project costs. Identification of project support cost sharing, particularly in second and third year performance period, is required. Cost-sharing may include in-kind services, the applicant's or other funding resources. NHTSA will give a preference to applicants who identify resources from within or outside their organization to support continuation of the program beyond the grant period.

Availability of Funds and Period of Support

Contingent on the availability of funds and satisfactory performance, cooperative agreement(s) awarded under this solicitation will extend for a project period of 3 years. Should the Agency select a national organization to administer the entire demonstration program, consisting of multiple community projects rather than a single project, NHTSA will make only one (1) award under this announcement. NHTSA will consider applications from State organizations to administer 1 to 2 community projects, and also applications from local organizations to administer individual community projects.

A total estimated program effort of $700,000 is anticipated over the 3-year period, with approximately $400,000 available in Fiscal Year 2003. Based on demonstrated need, we anticipate that the funding level to support the individual community projects will range from between approximately $150,000 and $200,000 total, over the 3-year project period. This estimate is based on depreciating funding levels of 100 percent for year one, 50 percent for year two, and 25 percent for year three, and the expectation that the grantee will identify and utilize other funding resources to support the effort. This stated range does not establish minimum or maximum funding levels.

Please note that applications from national and state organization also may budget for necessary organization costs to administer the community projects and establish an infrastructure to sustain the program. Each application, whether from a national, state or local entity, must specify the portion of funding requested for evaluation activities. It is imperative that all applicants earmark at least 20 percent of the total budget for such evaluation activities, whether NHTSA funding, applicant's contribution, or combined funding resources.

Successful applicants will work closely with a NHTSA evaluator, most likely an independent contractor, who will oversee the evaluation component of the program and individual community projects. The evaluator will work with successful applicants on evaluation design and execution to ensure that results from all awarded projects remain consistent. Thus, this portion of the project evaluation will not be an additional cost item for the project applicants.

NHTSA Involvement

In addition to being involved in all activities undertaken under the cooperative agreement program, NHTSA will:

1. Provide a Contracting Officer's Technical Representative (COTR) to participate in the planning and management of activities undertaken pursuant to this cooperative agreement and to coordinate activities between the grantee(s) and NHTSA;

2. Provide information and technical assistance from available government resources, as deemed appropriate by the COTR;

3. Serve as a liaison between NHTSA Headquarters, Regional Offices and other Federal, State and local stakeholders who may be interested in the demonstration program and the activities of the grantee, as appropriate;

4. Stimulate the transfer of information between grantees involved in the demonstration program and others engaged in rural community traffic safety programs; and 2.Provide available NHTSA materials to support grantee activities, as appropriate.

Special Award Selection Factors

NHTSA strongly urges applicants to seek funds from other Federal, State, local and private sources to augment those available under this announcement, and specifically to support cost-sharing in the second and third years of the agreement as the program moves towards self-sufficiency. NHTSA may give preference to meritorious applications with the best-proposed cost-sharing strategies and/or identifying additional proposed funding sources to support and sustain the program. In-kind services provided by the applicant organization may be included as a contribution.

Terms and Conditions of Award

1. Prior to award, each grantee must comply with the certification requirements set forth in 49 CFR Part 20, DOT's New Restrictions on Lobbying, and those set forth in 49 CFR Part 29, DOT's Government-wide Debarment and Suspension (Non-procurement) and Government-wide Requirements for Drug Free Workplace (Grants).

2. Reporting Requirements and Deliverables:

a. Quarterly Progress Reports are required and should include a summary of the previous quarter's activities and accomplishments, as well as the proposed activities for the upcoming quarter. Any decisions and actions required in the upcoming quarter should be included in the report. The grantee shall supply the progress report to the Contracting Officer's Technical Representative (COTR) every 90 days following date of award;

b. Program Action Plan and Evaluation Plan: The grantee shall submit revised action and evaluation plans, incorporating comments received from the NHTSA COTR, no more than 60 days after award of this agreement. The NHTSA COTR will review, comment and request revision, if necessary.

c. Draft Final Report: The grantee shall prepare a Draft Final Report that includes: a project description, process of implementation, partnerships established, community participation, activities conducted, establishment of infrastructure, and results and findings from the program evaluation, including changes in safety belt use rates. In terms of information transfer, it is important to know what worked and did not work, under what circumstances, what can be done to avoid potential problems in future projects. The report also should contain a discussion of how the project will be sustained within the community and organization, if applicable, and potential for replication. The grantee shall submit the Draft Final Report to the COTR 60 days prior to the end of the performance period. The COTR will review the draft report and provide comments to the grantee within 30 days of receipt of the document.

d. Final Report: The grantee shall revise the Draft Final Report to reflect the COTR's comments. The revised Final Report shall be delivered to the COTR 15 days before the end of the performance period. The grantee shall supply the COTR:

—Four hard copies of the final document;

—A disk of the report in Microsoft Word format; and

—A disk of the redlined version of the Draft Final Report reflecting changes made in response to the COTR's comments.

e. Presentations: The grantee shall conduct a final briefing of the project process and results to NHTSA staff in Washington, DC, and provide a workshop presentation at a national meeting to be determined upon completion of the project.

3. During the effective performance period of cooperative agreement(s) awarded as a result of this announcement, the agreement as applicable to the grantee shall be subject to NHTSA's General Provisions for Assistance Agreements, dated July 1995.

Jeffrey P. Michael,
Director, Office of Impaired Driving and Occupant Protection.

[FR Doc. 03-17110 Filed 7-7-03; 8:45 am]

BILLING CODE 4910-59-P